DEPARTMENT OF COMMERCE

Foreign-Trade Zones Board

Order No. 1623

Grant of Authority for Subzone Status adidas Sales, Inc. (Footwear and Apparel Warehousing and Distribution); Spartanburg, South Carolina

Pursuant to its authority under the Foreign-Trade Zones Act of June 18, 1934, as amended (19 U.S.C. 81a-81u), the Foreign-Trade Zones Board (the Board) adopts the following Order:

WHEREAS, the Foreign-Trade Zones Act provides for “...the establishment... of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the Board's regulations (15 CFR Part 400) provide for the establishment of special-purpose subzones when existing zone facilities cannot serve the specific use involved, and when the activity results in a significant public benefit and is in the public interest;

WHEREAS, the South Carolina State Ports Authority, grantee of Foreign-Trade Zone 38, has made application to the Board for authority to establish a special-purpose subzone at the warehouse and distribution facility of adidas Sales, Inc., located in Spartanburg, South Carolina, (FTZ Docket 54-2008, filed 10/20/08);

WHEREAS, notice inviting public comment has been given in the Federal Register (73 FR 64600, 10/30/08) and the application has been processed pursuant to the FTZ Act and the Board's regulations; and,

WHEREAS, the Board adopts the findings and recommendation of the examiner's report, and finds that the requirements of the FTZ Act and Board's regulations are satisfied, and that the proposal is in the public interest;

NOW, THEREFORE, the Board hereby grants authority for subzone status for activity related to athletic footwear and apparel warehousing and distribution at the facility of adidas Sales, Inc., located in Spartanburg, South Carolina (Subzone 38H), as described in the application and Federal Register notice, subject to the FTZ Act and the Board's regulations, including Section 400.28.

Signed at Washington, DC, this 15th day of May 2009.

Ronald K. Lorentzen,
Acting Assistant Secretary of Commerce for Import Administration.
Alternate Chairman Foreign-Trade Zones Board.
ATTEST:
Andrew McGilvray,
Executive Secretary.

[FR Doc. E9-12963 Filed 6-2-09; 8:45 am]

BILLING CODE 3510-DS-S